DEPARTMENT OF HOUSING AND URBAN DEVELOPMENT

[Docket No. FR-5318-N-01]

Notice of Availability: Notice of Funding Availability (NOFA) for the Indian Community Development Block Grant (ICDBG) Program Under the American Recovery and Reinvestment Act of 2009 (FR-5318-N-01)

AGENCY: Office of the Assistant Secretary for Public and Indian Housing, HUD.

ACTION: Notice.

SUMMARY: HUD announces the availability of, and funding criteria for, approximately $10 million that is available to Indian tribes and tribal organizations that received ICDBG grants in Fiscal Year 2008, authorized under the American Recovery and Reinvestment Act of 2009 (Public Law 111-5, approved February 17, 2009). This assistance is intended to preserve and create jobs, promote economic recovery, assist those impacted by the recession, and invest in transportation, environment and infrastructure that will provide long-term economic benefits. The notice establishing program requirements and funding criteria is available on the HUD Web site at: http://www.hud.gov/recovery/icdblockh.cfm.

FOR FURTHER INFORMATION CONTACT: Questions regarding specific program requirements should be directed to your Area Office of Native American Programs (ONAP). A contact list for each Area ONAP can be accessed at http://www.hud.gov/offices/pih/ih/codetalk/onap/map/nationalmap.cfm. Questions may also be directed to the ICDBG program at http://www.hud.gov/recovery/questions.cfm. Persons with hearing or speech impairments may access these numbers via TTY by calling the Federal Information Relay Service at 1-800-877-8339.

Dated: May 21, 2009.
Paula O. Blunt,
General Deputy Assistant Secretary for Public and Indian Housing.

[FR Doc. E9-12672 Filed 5-28-09; 11:15 am]

BILLING CODE 4210-67-P